COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add a product and services to the Procurement List that will be furnished by nonprofit agencies employing persons who are blind or have other severe disabilities.

Comments Must Be Received On or Before: 8/15/2011.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

NSN: 8140-00-NSH-0013—M183 Demolition Charge Box.

NPA: Northeastern Michigan Rehabilitation and Opportunity Center (NEMROC), Alpena, MI.

Contracting Activity: Dept of the Army, SR W39Z STK REC ACCT-CRANE AAP, Crane, IN.

Coverage: C-List for 100% of the requirement of the Crane Army Ammunition Activity as aggregated by the Department of the Army, U.S. Army Materiel Command, Crane Army Ammunitions Activity, Crane, IN.

Services

Service Type/Location: Custodial and Grounds Maintenance Services, Mill Creek Recreation Area, 3211 Reservoir Road, Walla Walla, WA.

NPA: Lillie Rice Center, Walla Walla, WA.

Contracting Activity: Dept of the Army, XU W071 Endist Walla Walla, Walla Walla, WA.

Service Type/Location: Warehouse Staffing Services, Warehouse Section—Building Branch—NOAA's Logistics Div., Building 22, 325 Broadway Street, Boulder, CO.

NPA: Bayaud Industries, Inc., Denver, CO.

Contracting Activity: Dept of Commmerce, National Oceanic and Atmospheric Administration, Boulder, CO.

Barry S. Lineback,
Director, Business Operations.

[FR Doc. 2011-17861 Filed 7-14-11; 8:45 am]

BILLING CODE 6353-01-P